DEPARTMENT OF LABOR

Office of the Workers' Compensation Programs

Agency Information Collection Activities; Comment Request; Request for Information on Earnings, Dual Benefits, Dependents and Third Party Settlement, CA-1032

AGENCY: Division of Federal Employees' Compensation, Office of the Workers' Compensation Programs, Department of Labor.

ACTION: Notice.

SUMMARY: The Department of Labor (DOL) is soliciting comments concerning a proposed revision for the authority to conduct the information collection request (ICR) titled, “[Request for Information on Earnings, Dual Benefits, Dependents and Third Party Settlement, CA-1032].” This comment request is part of continuing Departmental efforts to reduce paperwork and respondent burden in accordance with the Paperwork Reduction Act of 1995 (PRA).

DATES: Consideration will be given to all written comments received by June 1, 2020.

ADDRESSES: A copy of this ICR with applicable supporting documentation; including a description of the likely respondents, proposed frequency of response, and estimated total burden may be obtained free by contacting Anjanette Suggs by telephone at 202-354-9660 or by email at suggs.anjanette@dol.gov.

Submit written comments about, or requests for a copy of, this ICR by mail or courier to the U.S. Department of Labor, Office of Workers' Compensation Programs, Room S3323, 200 Constitution Avenue NW, Washington, DC 20210; by email: suggs.anjanette@dol.gov.

FOR FURTHER INFORMATION CONTACT: Anjanette Suggs by telephone at 202-354-9660 or by email at suggs.anjanette@dol.gov.

SUPPLEMENTARY INFORMATION: The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

The OWCP uses this collection to obtain information from a Federal Employees' Compensation Act (FECA) claimant receiving workers' compensation benefits over an extended period. The OWCP uses the response to determine whether the claimant is entitled to continue receiving benefits and whether the benefit amount should be adjusted. The collection is necessary to ensure the beneficiary receives correct compensation. Information requested on the CA-1032 is obtained from each claimant receiving continuing compensation on the periodic disability roll. The form requests information on the claimant's earnings, dependents, third party settlements, and other Federal benefits received. The FECA authorizes this information collection. See 5 U.S.C. 8124 and 8149.

This information collection is subject to the PRA. A Federal agency generally cannot conduct or sponsor a collection of information, and the public is generally not required to respond to an information collection, unless the OMB under the PRA approves it and displays a currently valid OMB Control Number. The current approval is scheduled to expire August 31, 2020. In addition, notwithstanding any other provisions of law, no person shall generally be subject to penalty for failing to comply with a collection of information that does not display a valid Control Number. See 5 CFR 1320.5(a) and 1320.6.

Interested parties are encouraged to provide comments to the contact shown in the ADDRESSES section. Written comments will receive consideration, and summarized and included in the request for OMB approval of the final ICR. In order to help ensure appropriate consideration, comments should mention [1240-0016].

Submitted comments will also be a matter of public record for this ICR and posted on the internet, without redaction. The DOL encourages commenters not to include personally identifiable information, confidential business data, or other sensitive statements/information in any comments.

The DOL is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected; and

• Minimize the burden of the collection of information on those who are to respond, including through the use of appropriate automated, electronic, mechanical, or other technological collection techniques or other forms of information technology, e.g., permitting electronic submission of responses.

Agency: DOL-Office of Workers' Compensation Programs.

Type of Review: [Revision].

Title of Collection: [Request for Information on Earnings, Dual Benefits, Dependents and Third Party Settlement].

Form: [CA-1032].

OMB Control Number: [1240-0016].

Affected Public: [Individual or Household].

Estimated Number of Respondents: [37,056].

Frequency: [Annually].

Total Estimated Annual Responses: [37,056].

Estimated Average Time per Response: [20 minutes].

Estimated Total Annual Burden Hours: [12,352] hours.

Total Estimated Annual Other Cost Burden: $[294,472].

Authority: 44 U.S.C. 3506(c)(2)(A).

Anjanette Suggs,
Agency Clearance Officer.

[FR Doc. 2020-06748 Filed 3-31-20; 8:45 am]

BILLING CODE 4510-CH-P